DEPARTMENT OF ENERGY

Federal Energy Regulatory Commission

[Docket No. EF04-5182-000, et al.]

United States Department of Energy, et al.; Electric Rate and Corporate Filings

January 12, 2004.

The following filings have been made with the Commission. The filings are listed in ascending order within each docket classification.

1. United States Department of Energy—Western Area Power Administration

[Docket No. EF04-5182-000]

Take notice that on January 2, 2004, as amended on January 8, 2004, the Deputy Secretary of the Department of Energy, by Rate Order No. WAPA-106, did confirm and approve on an interim basis, to be effective on March 1, 2004, ending February 28, 2009, the Western Area Power Administration's Rate Schedules L-NT1, L-FPT1, L-NFPT1, L-AS1, L-AS2, L-AS3, L-AS4, L-AS5, L-AS6, and L-AS7 for Loveland Area Projects Transmission and Ancillary Services.

The Deputy Secretary of the Department of Energy states that these rates will be in effect pending the Federal Energy Regulatory Commission's (Commission) approval of these or of substitute rates on a final basis through February 28, 2009.

Comment Date: January 23, 2004.

2. PJM Interconnection, L.L.C.

[Docket No. EL02-111-010]

Take notice that on January 2, 2004, PJM Interconnection, L.L.C. (PJM), in compliance with the Commission's November 17 Order in Docket No. EL01-111-004, et al., 105 FERC 61,212 (2003), on behalf of itself and the Transmission Owners Agreement Administrative Committee, filed revisions to the PJM Open Access Transmission Tariff, to eliminate through-and-out rates for transactions sinking within the Combined Region, as defined in the November 17 Order, other than transactions pursuant to long-term firm transmission reservations effective before April 1, 2004. PJM states that the compliance tariff sheets have an effective date of April 1, 2004, as established by the November 17 Order.

PJM states that copies of this filing have been served on all PJM members and utility regulatory commissions in the PJM Region and on all parties listed on the official service list compiled by the Secretary in this proceeding.

Comment Date: January 23, 2004.

3. Midwest Independent Transmission System Operator, Inc.

[Docket Nos. EL02-111-011]

Take notice that on January 2, 2004, the Midwest Independent Transmission System Operator, Inc. (Midwest ISO), pursuant to the Commission's November 17, 2003, Order in Docket No. EL02-111-004, et al., submitted for filing revisions to its Open Access Transmission Tariff (OATT) to eliminate certain Regional Through and Out Rates (RTORs) for new transactions sinking in the areas served by the tariffs of the Midwest ISO, PJM Interconnection L.L.C. (PJM), American Electric Power System (AEP) (but only for transactions in the ``AEP East Zone'' as that term is defined in AEP's tariff), Commonwealth Edison Company and Commonwealth Edison Company of Indiana (ComEd), Illinois Power Company (Illinois Power), Dayton Power and Light Company (DP&L), and Ameren Operating Companies (Ameren) (collectively, as the Combined Region), to become effective as of April 1, 2004.

The Midwest ISO has also requested waiver of the service requirements set forth in 18 CFR 385.2010. The Midwest ISO states it has electronically served a copy of this filing, with attachments, upon all Midwest ISO Members, Member representatives of Transmission Owners and Non-Transmission Owners, the Midwest ISO Advisory Committee participants, as well as all state commissions within the region and in addition, the filing has been electronically posted on the Midwest ISO's Web site at http://www.midwestiso.org under the heading ``Filings to FERC'' for other interested parties in this matter. The Midwest ISO further states it will provide hard copies to any interested parties upon request.

Comment Date: January 23, 2004.

4. American Electric Power Service Corporation, Commonwealth Edison Company, Dayton Power and Light Company

[Docket Nos. EL03-212-005]

Take notice that on January 2, 2004, American Electric Power Service Corporation on behalf of Appalachian Power Service Company, Columbus Southern Power Company, Indiana Michigan Power Company, Kentucky Power Company, Kingsport Power Company, Ohio Power Company and Wheeling Power Company (AEP), Commonwealth Edison Company and Commonwealth Edison Company of Indiana, Inc. (ComEd) and Dayton Power and Light Company (DP&L) tendered for filing revisions to their respective Open Access Transmission Tariffs in compliance with the Commission's Order issued on November 17, 2003, in Docket Nos. EL03-212-000 and 001, 105 FERC § 61,216 (2003).

AEP, ComEd and DP&L state that they have served copies of this filing on all parties on the service list for this proceeding, as well as on state public utility commissions having jurisdiction over the companies.

Comment Date: January 23, 2004.

5. Ameren Services Company

[Docket No. EL03-212-006]

Take notice that on January 2, 2004, Ameren Services Company (Ameren) filed revisions to its open access transmission tariff (OATT) to comply with the Commission's Order, issued November 17, 2003, Docket Nos. EL03-212-000 and 001. Ameren proposes, effective April 1, 2004, to eliminate through and out rates for transactions exiting the Ameren system and sinking in the areas served by the open access transmission tariffs of the Midwest Independent System Operator Inc., PJM Interconnection, L.L.C.,

American Electric Power Company (East Zone), Commonwealth Edison Company and Commonwealth Edison Company Indiana, Dayton Power and Light Company and Illinois Power Company. The exceptions are long term firm transactions already in effect on April 1, 2004 which will continue to pay the current rates under the Ameren OATT. Ameren states that it has served copies of this filing on all of the parties listed in the official service list maintained in Docket No. EL03-212-000, the Missouri Public Service Commission and the Illinois Commerce Commission.

Comment Date: January 23, 2004.

6. InterGen Services, Inc., on Behalf of Cottonwood Energy Company, L.P., Complaint v. Entergy Services, Inc. and Entergy Gulf States, Inc., Respondent

[Docket No. EL04-51-000]

Take notice that on January 9, 2004, InterGen Services, Inc., (InterGen) filed a Complaint, pursuant to section 206 of the Federal Power Act, against Entergy Services, Inc., and Entergy Gulf States, Inc. (collectively, Entergy). The Complaint asserts that Entergy is violating the Commission's Interconnection Policy by refusing to allow InterGen to use its transmission credits in a flexible manner as required by Entergy Services, Inc.,

101 FERC § 61,289 (2002). InterGen states that copies of the Complaint were served on Entergy.

Comment Date: February 2, 2004.

7. PPL Wallingford Energy LLC and Devon Power LLC

[Docket Nos. ER03-421-007 and ER03-563-026]

Take notice that on January 2, 2004, PPL Wallingford Energy LLC, in compliance with the Commission(s December 22, 2003, Order,105 FERC & 61,324 a filing providing an explanation of costs allocated to PPL Wallingford Energy LLC.

Comment Date: January 23, 2004.

8. PPL Wallingford Energy LLC and Devon Power LLC, et al.

[Docket Nos. ER03-421-008 and ER03-563-028]

Take notice that on January 7, 2004, ISO New England Inc. (ISO) submitted a Compliance Filing in the above-captioned proceeding as directed by the Commission in its December 22, 2003, Order on Rehearing and Compliance, 105 FERC 61,324. The ISO states that copies of the filing have been served on all parties to the above-captioned proceeding.

Comment Date: January 28, 2004.

9. Devon Power LLC, Middletown Power LLC, Montville Power LLC, Norwalk Power LLC and NRG, and Power Marketing Inc.

[Docket No. ER03-563-027]

Take notice that on January 2, 2004, Devon Power LLC, Middletown Power LLC, Montville Power LLC, Norwalk Power LLC (collectively Applicants) and NRG Power Marketing Inc., tendered for filing in compliance with the Commission's Order, issued December 22, 2003, 105 FERC 61,324 Fourth Revised Cost of Service Agreements among each of the Applicants, NRG Power Marketing Inc, as agent for each Applicant, and ISO New England Inc. (ISO-NE).

Applicants state that they have served a copy of the filing on ISO-NE and to each person designated on the official service list compiled by the Secretary in the above-captioned proceedings.

Comment Date: January 23, 2004.

10. Agway Energy Services-PA, Inc.

[Docket No. ER04-284-001]

Take notice that on January 2, 2004, Agway Energy Services-PA, Inc. (Agway) tendered for filing an Amendment to its Notice of Cancellation for its market-based rate authority filed on December 12, 2003. Agway is requesting an effective date of December 23, 2003.

Comment Date: January 23, 2004.

11. Pacific Gas and Electric Company

[Docket Nos. ER04-337-001]

Take notice that on January 5, 2004, Pacific Gas and Electric Company (PG&E) filed an errata to replace an exhibit and correct a tariff sheet to its December 24, 2003, filing of Transmission Owner Tariff (TO Tariff) rate for the Transmission Revenue Balancing Account Adjustment (TRBAA), the Reliability Services (RS) rate, and the Transmission Access Charge Balancing Account Adjustment (TACBAA) also set forth in its TO Tariff. PG&E states that the errata corrects administrative errors in Exhibit 6A and minor typographical errors in Appendix II.

PG&E states that copies of this filing have been served upon the California Independent System Operator (ISO), Scheduling Coordinators registered with the ISO, Southern California Edison Company, San Diego Gas &Electric Company, the California Public Utilities Commission and other parties to the official service lists in this docket and recent TO Tariff rate cases, FERC Docket Nos. ER01-1639-000, ER03-409-000 and ER04-109-000.

Comment Date: January 26, 2004.

12. PJM Interconnection, L.L.C.

[Docket No. ER04-368-000]

Take notice that on January 2, 2004, PJM Interconnection, L.L.C. (PJM), submitted for filing an executed Construction Service Agreement (CSA) among PJM and Borough of Chambersburg, and Monongahela Power Company, The Potomac Edison Company, and West Penn Power Company, all doing business as Allegheny Power. PJM requests a waiver of the Commission's 60-day notice requirement to permit a December 17, 2003, effective date for the CSA. PJM states that copies of this filing were served upon the parties to the agreements and the state regulatory commissions within the PJM region.

Comment Date: January 23, 2004.

13. Illinois Power Company

[Docket No. ER04-369-000]

Take notice that on January 2, 2004, Illinois Power Company (IP) filed revisions to its open access transmission tariff (OATT) to comply with the directives in the Commission's Order issued in Docket Nos. EL03-212-000 and 001 on November 17, 2003, 105 FERC 61,216 (2003).

IP states that it has served copies of this filing on all of the parties listed in the official service list maintained in Docket No. EL03-212-000, which includes the Illinois Commerce Commission, and all of IP's OATT customers.

Comment Date: January 23, 2004.

14. Western Systems Power Pool, Inc.

[Docket No. ER04-376-000]

Take notice that on January 6, 2004, the Western Systems Power Pool, Inc. (WSPP) submitted a request to amend the WSPP Agreement to include Duke Energy Marketing America, LLC (DEMA) as a participant. The WSPP seeks an effective date of November 27, 2003.

WSPP states that copies of this filing will be served upon DEMA. WSPP further states that in addition, copies will be emailed to WSPP members who have supplied email addresses for the Contract Committee and Contacts lists. WSPP states that this filing also has been posted on the their home page (www.wspp.org) thereby providing notice to all WSPP members.

Comment Date: January 27, 2004.

Standard Paragraph

Any person desiring to intervene or to protest this filing should file with the Federal Energy Regulatory Commission, 888 First Street, NE., Washington, DC 20426, in accordance with rules 211 and 214 of the commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the "FERRIS" link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-78 Filed 01-16-04; 8:45 am]

BILLING CODE 6717-01-P